DEPARTMENT OF JUSTICE

Notice of Lodging of Consent Decree Pursuant to the Clean Water Act

Notice is hereby given that on June 16, a proposed Consent Decree in United States and the State of Nebraska v. Swift Beef Company, Civil Action No. 8:11-cv-216 was lodged with the United States Court for the District of Nebraska. In this action, Plaintiffs the United States and State of Nebraska sought the penalties and injunctive relief for violations of the Clean Water Act (“CWA”) by Swift Beef Company (“Swift”) at a beef processing plant it owns and operates in Grand Island, Nebraska. Pursuant to the proposed Consent Decree, Defendants will pay to the United States and the State of Nebraska $1,300,000 in civil penalties and undertake injunctive measures designed to prevent future violations.

For 30 days after the date of this publication, the Department of Justice will receive comments relating to the proposed consent decree. Comments should be addressed to the Assistant Attorney General, Environment and Natural Resources Division, and either emailed to pubcomment-ees.enrd@usdoj.gov or mailed to P.O. Box 7611, U.S. Department of Justice, Washington, DC 20044-7611, and should refer to United States v. Swift Beef Company, Civil Action No. 8:11-cv-216 (D. Neb.), DJ Reference No. 90-5-1-1-09466.

During the public comment period, the Consent Decree may also be examined on the following Department of Justice Web site: http://www.usdoj.gov/enrd/Consent_Decrees.html. A copy of the proposed consent decree may be obtained by mailing a request to the Consent Decree Library, P.O. Box 7611, U.S. Department of Justice, Washington, DC 20044-7611. When requesting a copy by mail, please enclose a check payable to the U.S. Treasury in the amount of $12.00 (25 cents per page reproduction cost). A copy may also be obtained by faxing or e-mailing a request to Tonia Fleetwood, tonia.fleetwood@usdoj.gov, fax number (202) 514-0097, phone confirmation number (202) 514-1547, and sending a check to the Consent Decree Library at the stated address.

Robert E. Maher, Jr.,
Assistant Section Chief, Environmental Enforcement Section, Environment and Natural Resources Division.

[FR Doc. 2011-15465 Filed 6-21-11; 8:45 am]

BILLING CODE 4410-15-P